DEPARTMENT OF JUSTICE

Antitrust Division

Notice Pursuant to the National Cooperative Research and Production Act of 1993—J Consortium, Inc.

Notice is hereby given that, on April 16, 2001, pursuant to section 6(a) of the National Cooperative Research and Production Act of 1993, 15 U.S.C. 4301 et seq. (“the Act”), J Consortium, Inc. has filed written notifications simultaneously with the Attorney General and the Federal Trade Commission disclosing changes in its membership status. The notifications were filed for the purpose of extending the Act's provisions limiting the recovery of antitrust plaintiffs to actual damages under specified circumstances. Specifically, Praxis Critical System, Bath, United Kingdom; IONA Technologies, Waltham, Ma; BoldFont, Davis, CA; Micro Design Online, San Jose, CA; Muhammad Amir (individual member), Sindh, Pakistan; Kutsal Baser (individual member), Bishkek, Kyrgyzstan; Burhan A. Sh. (individual member), Lahore, Pakistan; Olivier Chamley (individual member), Pessac, France; Eric Dorion (individual member), Val-Belair, Quebec, Canada; Johann Gruber (individual member), Vienna, Austria; Samantha Gunasena (individual member), Thudella, Jaela, West Provence, Sri Lanka; Jmchen, Hangzhou, Zhejiang, People's Republic of China; Ouma Konyino, Maseo, Kenya; Dip.Ing. Kurt Layer, Unterpremstaetten, Austria; Jukka Peltoa, Espoo, Finland; Gerd Loos (individual member), Hamburg, Germany; Sharath Gowd R, (individual member), Banglore, Karnataka, India; David Sawyer (individual member), Wolcott, CT; Deepak Shah, Bangalore, Karnataka, India; Swamynathan Sivasubramaniyan, Aurora, CO; Virkram M P, Bangalore, Karnataka, India; Wangzhi, Hangzhou, Zhejiang, People's Republic of China; Amir Wasim (individual member), Lahore, Pakistan; and Brian Leslie Williams (individual member), Singapore, Singapore have been added as parties to this venture. Also, EIBA, Brussels, Belgium has been dropped as a party to this venture.

No other changes have been made in either the membership or planned activity of the group research project. Membership in this group research project remains open, and J Consortium, Inc. intends to file additional written notification disclosing all changes in membership.

On August 9, 1999, J Consortium, Inc. filed its original notification pursuant to section 6(a) of the Act. The Department of Justice published a notice in the Federal Register pursuant to Section 6(b) of the Act on March 21, 2000 (65 FR 15175).

The last notification was filed with the Department on January 19, 2001. A notice was published in the Federal Register pursuant to Section 6(b) of the Act on March 8, 2001 (66 FR 13970).

Constance K. Robinson,
Director of Operations, Antitrust Division.

[FR Doc. 01-18084 Filed 7-18-01; 8:45 am]

BILLING CODE 4410-11-M